DEPARTMENT OF AGRICULTURE

Forest Service

Gotchen Risk Reduction and Late-Successional Health Restoration, Gifford Pinchot National Forest, Skamania and Yakima Counties, WA

AGENCY: Forest Service, USDA.

ACTION: Notice of intent to prepare an environmental impact statement.

SUMMARY: The Forest Service will prepare an environmental impact statement (EIS) to determine appropriate actions to reduce the risk of losing late-successional habitat to fire, and insect and disease-related mortality; and to maintain or restore late-successional vigor, function and resiliency within the Gotchen landscape. The analysis will determine the best combination and placement of a variety of actions including silvicultural, limited aerial application of Btk spray (an insecticide), prescribed fire, road closures, and road decommissioning. These actions are to accomplish the following needs in the Gotchen planning area: reduce the risk of high intensity fires; reduce the risk-level of spruce budworm activity in late successional habitat; reduce the risk of remnant tree mortality; restore late-successional vigor, function, and resiliency; thinning live trees from overstocked stands less than 80 years old; salvage dead trees in stands greater than 10 acres in the Late Successional Reserve (LSR); regenerate dead and dying stands within the Matrix. The Gotchen landscape is comprised of the lands designated as the LSR and to its immediate south, Matrix. Both are interspersed with Riparian Reserves. These land allocations are described in the Gifford Pinchot National Forest Land and Resource Management Plan (1990) as amended by the Record of Decision for Amendments to Forest Service and Bureau of Land Management Planning Documents Within the Range of the Northern Spotted Owl (1994)—“Northwest Forest Plan”. Due to the extensive presence of insect and disease-susceptible tree species such as grand fir, the forests within the Gotchen landscape are in poor health and at risk of being consumed by high intensity, stand-replacing fires. The insect problems are from an ongoing epidemic infestation of the western spruce budworm, a well-known forest pest that has defoliated extensive areas of coniferous forest throughout the Gotchen planning area and adjacent National Forest System and non-federal lands. These defoliated and dead trees contribute to an increasing fire hazard throughout the Gotchen landscape and threaten the vigor, function, and resiliency of the late-successional habitat. Northern spotted owl habitat within the LSR is currently being lost due to insect and disease-related tree mortality.

DATES: Comments concerning issues and scope of this analysis should be received by November 30, 2001.

ADDRESSES: Send comments via post mail to the Gotchen Planning Team, Mount Adams Ranger District, 2455 Highway 141, Trout Lake, Washington 98650 or send comments via e-mail to r6_gp_forest@fs.fed.us Subject: Gotchen EIS.

FOR FURTHER INFORMATION CONTACT: Call Julie Knutson at (509) 395-3378, or e-mail: jcknutson@fs.fed.us.

SUPPLEMENTARY INFORMATION: A primary purpose of the LSR is to provide habitat for late-successional forest habitat dependant species such as the northern spotted owl. The northern spotted owl is listed as a “threatened” species under the Endangered Species Act. The Matrix is the portion of the National Forest that the Northwest Forest Plan allows to be managed for early successional habitat and commodity production, as well as provided connectivity and structural elements important to late-successional species. The Gotchen planning area is to the east of the Cascades in an area that had a mosaic of pine savannah and closed forest, at the time of European settlement. Today, the area is more uniformly forested and has supported up to six nesting pair of spotted owls. Although a century of fire suppression and selective harvest has led to the conditions that are now attractive to spotted owls, these practices contributed to development of an unstable landscape that is vulnerable to defoliation and mortality from insects, diseases, and high intensity fires. The attributes that make the area good late successional habitat are the same attributes that make the area vulnerable to budworm, root diseases, and ultimately, stand replacement fires.

Several issues associated the potential treatments have been identified to date: (1) Mardon skipper butterfly: which is currently listed by the State of Washington as an endangered species, and is a candidate species for federal listing under the Endangered Species Act. Aerial application of the pesticide Btk to suppress spruce budworm would kill all lepidopteron (moths and butterflies) that came in contact with the insecticide, including the mardon skipper. (2) Smoke management: The Gotchen area is on the south slope of Mt. Adams, immediately adjacent to the Mt. Adams Wilderness Area. This area is a Class I Airshed where, under the Clean Air Act, there is a need to keep the air clean and pristine. Prescribed burning would generate smoke and has the potential to drift into the Wilderness area and degrade the air quality. (3) Gotchen Roadless Area: Portions of the Gotchen Roadless Area lie within the planning area. It is possible that Silvicultural treatment could be proposed within the Roadless Area.

Several scoping notices have been sent out locally over the past year indicating the District's intent to plan and implement actions in the Gotchen landscape to address the forest health and risk concerns. Continued scoping and public participation efforts will be used by the interdisciplinary planning team to identify new issues, develop alternatives in response to the issues, and determine the level of analysis needed to disclose potential biological, physical, economic and social impacts associated with the project. The specific need and format for meetings and workshops will be determined by the comments received from this notice, and responses by individuals and organizations. This Notice and subsequent scoping notices will satisfy the requirements under 36 CFR 800.2(d) for seeking the views of the public on the potential effects of an undertaking on historic properties. A web site will be established in the near future on the Gifford Pinchot National Forest World Wide Web to enable interested parties to access project information directly. The Forest Service is seeking information, comments, and assistance from other agencies, organizations or individuals who may be interested in or affected by the proposed project.

Comments received in response to this notice, including names and addresses of those who comment, will be considered part of the public record on this proposed action and will be available for public inspection. Comments submitted anonymously will be accepted and considered; however, those who submit anonymous comments will not have standing to appeal the subsequent decision under 36 CFR parts 215 or 217. Additionally, pursuant to 4 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

The draft EIS is expected to be filed with the Environmental Protection Agency (EPA) and to be available for public review in February 2002. EPA will publish a notice of availability of the draft EIS in the Federal Register. The comment period will be 45 days from the date the EPA publishes the notice of availability in the Federal Register.

The Forest Service believes, at this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS. To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

The final EIS is anticipated to be completed by July, 2002. In the final EIS, the Forest Service is required to respond to substantive comments received during the comment period on the draft EIS. Gregory L. Cox, Mount Adams District Ranger, is the Responsible Official. He will decide, which, if any, of the proposed project alternatives will be implemented. His decision and reasons for the decision will be documented in the Record of Decision, which will be subject to Forest Service Appeal Regulations (36 CFR part 215).

Dated: October 30, 2001.
Claire Lavendel,
Forest Supervisor.

[FR Doc. 01-27778 Filed 11-5-01; 8:45 am]

BILLING CODE 3410-11-M